DEPARTMENT OF COMMERCE

National Oceanic and Atmospheric Administration

RIN 0648-XF142

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Advisory Panel will hold a public meeting via webinar, jointly with the Atlantic States Marine Fisheries Commission's (ASMFC's) Summer Flounder, Scup, and Black Sea Bass Advisory Panel.

DATES: The meeting will be held on Monday, February 6, 2017, from 2 p.m. to 5 p.m. See SUPPLEMENTARY INFORMATION for agenda details.

ADDRESSES: The meeting will take place over webinar with a telephone-only connection option. The webinar can be accessed at: http://mafmc.adobeconnect.com/bsb-ap-2017/. To access via telephone, dial 1-800-832-0736 and use room number 4472108.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Summer Flounder, Scup, and Black Sea Bass Advisory Panel, together with the Atlantic States Marine Fisheries Commission's Advisory Panel, will meet on Monday, February 6, 2017 via webinar (see DATES and ADDRESSES). The purpose of this meeting is to review and comment on the recently approved stock assessment information for black sea bass, as well as the reports and recommendations of the Council's Scientific and Statistical Committee (SSC) and the Summer Flounder, Scup, and Black Sea Bass Monitoring Committee regarding black sea bass fishery specifications for 2017-19 (i.e., catch and landings limits for 2017-19, as well as recreational management measures for 2017). The Council and ASMFC will consider input from the AP at their joint meeting in February when reviewing these specifications.

A detailed agenda and background documents will be made available on the Council's Web site (www.mafmc.org) prior to the meeting.

Special Accommodations

The meeting is physically accessible to people with disabilities. Requests for sign language interpretation or other auxiliary aid should be directed to M. Jan Saunders, (302) 526-5251, at least 5 days prior to the meeting date.

Dated: January 6, 2017.
Tracey L. Thompson,
Acting Deputy Director, Office of Sustainable Fisheries, National Marine Fisheries Service.

[FR Doc. 2017-00418 Filed 1-10-17; 8:45 am]

BILLING CODE 3510-22-P